FEDERAL COMMUNICATIONS COMMISSION

47 CFR Part 64

[CC Docket No. 92-105, WT Docket No. 00-110; FCC 01-351]

Public Information Collection Approved by Office of Management and Budget

AGENCY: Federal Communications Commission.

ACTION: Final rule, announcement of effective date.

SUMMARY: The Federal Communications Commission has received Office of Management and Budget (OMB) approval for the public information collection contained in the Commission's decision regarding the use of N11 codes and other abbreviated emergency dialing arrangements. Therefore, the Commission announces that those regulations containing public information collections, including 47 CFR 64.3002, are effective February 13, 2002.

DATES: Section 64.3002, published at 67 FR 1649, January 14, 2002, is effective February 13, 2002.

FOR FURTHER INFORMATION CONTACT: David Siel and Susan Kimmel, 202-418-1310.

SUPPLEMENTARY INFORMATION: The Federal Communications Commission has received OMB approval for the reporting requirement in its Fifth Report and Order in CC Docket No. 92-105, First Report and Order in WT Docket No. 00-110, and Memorandum Opinion and Order in CC docket No. 92-105, and WT Docket No. 00-110 (known collectively as the Order), which appears at 67 FR 1643, January 14, 2002. The effective date of the rules and regulations adopted in that decision was published as February 13, 2002, except for § 64.3002, which contains modified information collection requirements that will not be effective until approved by the Office of Management and Budget. Through this document, the Commission announces that it has received this approval (OMB Control No.: 3060-0954, Expiration Date: 06/30/02) and that § 64.3002 and other non-codified requirements adopted in the Order will also be effective on February 13, 2002. Pursuant to the Paperwork Reduction Act of 1995, Public Law 96-511. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission.
William F. Caton,
Deputy Secretary.

[FR Doc. 02-1693 Filed 1-24-02; 8:45 am]

BILLING CODE 6712-01-P